DEPARTMENT OF DEFENSE

Department of the Navy

[Docket ID: USN-2024-HQ-0007]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by January 30, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION: Title; Associated Form; and OMB Number: Prospective Studies of US Military Forces and Their Families: The Millennium Cohort Program; OMB Control Number 0703-0064.

Type of Request: Revision.

Millennium Cohort Study Follow-Up Survey

Number of Respondents: 177,127.

Responses per Respondent: 1 (every three years).

Annual Responses: 59,042.

Average Burden per Response: 45 minutes.

Annual Burden Hours: 44,282.

Millennium Cohort Study Participant Feedback Survey

Number of Respondents: 177,127.

Responses per Respondent: 1 (every three years).

Annual Responses: 59,042.

Average Burden per Response: 8 minutes.

Annual Burden Hours: 7,872.

Millennium Cohort Family Study Follow-Up Survey

Number of Respondents: 16,901.

Responses per Respondent: 1 (every three years).

Annual Responses: 5,634.

Average Burden per Response: 50 minutes.

Annual Burden Hours: 4,695.

Total

Number of Respondents: 194,028.

Annual Responses: 123,718.

Annual Burden Hours: 56,849.

Needs and Uses: The Millennium Cohort Study (MCS) and the Millennium Cohort Family Study (Family Cohort Study; FCS) are two of the major research programs that comprise the Millennium Cohort Program (MCP). The MCP is an Army and Defense Health Program research study conducted at the Naval Health Research Center (NHRC), San Diego, CA, with the primary objective to evaluate the impact of military service, including deployments and occupational exposures, on the long-term health of service members, Veterans, and family members. Information is collected to allow for the assessment of the impact of military deployments, combat, and other experiences. These longitudinal studies are authorized to collect data among participants to ascertain long-term health outcomes of military service members, Veterans, and family members.

The concept and design of the MCS was recommended in the 1998 Institute of Medicine (IOM) Report “The Gulf War Veterans: Measuring Health.” Under the subheading “Strategies to Protect the Health of Deployed US Forces,” IOM recommended that prospective investigations be planned to evaluate multi-dimensional factors relevant to health and health change so that these factors can be assessed over the lifetime of the service member.

Section 743 of the Strom Thurmond National Defense Authorization Act for FY1999 authorized the Secretary of Defense to “. . . establish a center devoted to a longitudinal study to evaluate data on the health conditions of members of the Armed Forces upon return from deployment on military operations for purposes of ensuring rapid identification of any trends in diseases, illnesses or injuries among such members as a result of such operation.”

The MCS was originally designed in response to the IOM recommendation and to Congress's authorization and funding as a prospective, 21-year-long, multi-panel and wave, cohort investigation. However, given that military experiences may contribute to health outcomes with long latencies along with the goal to evaluating the impacts of these experiences on the total life span of the service member, in 2013 the Office of the Assistant Secretary of Defense for Health Affairs authorized the extension of the MCS to 67 years. The study will now include future follow-ups beyond the original 21 years for up to 67 years until 2068.

The FCS, which focuses on family life and structure as well as the relationship between the service member and the spouse, was conceptualized and designed in response to concern for the potential effects of military deployment on service members, as well as their families, expressed by the Department of Defense (DoD), the Department of Veterans Affairs (VA), the American Psychology Association (APA), and the White House.

The main objectives of the MCP are (1) to develop a long-term profile of health change among current and former members of the Armed Forces, especially in relation to individual deployment experience, (2) to better define the nature of risk factors for the development of post-war illness among US military personnel, (3) to assess the impact of military service, including deployments, on the health and well-being of the family, and (4) to examine the relationships between the family members and the service member. These objectives will be accomplished by joining self-reported health status information collected from the study participants with electronic healthcare utilization, deployment, exposure, and demographic data available from other sources such as the DoD, Department of Veterans Affairs (VA), Federal or state agencies, or nongovernmental organizations for all participants. Self-reported information is collected using a baseline questionnaire and a series of follow-up questionnaires that are collected in 3-year intervals through at least 2068 for the MCS and 2031 for the FCS.

These findings will then provide strategic evidence that will help inform policy and guide interventions. This DoD capability is the first of its kind, using a large population-based cohort to assess the long-term impact of military service and deployment on the health of service members, their spouses, and co-resident children, and to evaluate the quality of the relationships between service members, spouses, and their children.

Due to the ongoing decline in survey response not just to this study but all DoD studies, the MCS has designed a participant feedback questionnaire that will help us gather crucial information about participant recruitment and study retention, such as reasons for non-response, correlates of non-response, motivations to participate, acceptability of study communication methods, and recommendations for improvement. Near the end of the 2024-2025 survey cycle, the Millennium Cohort Study will conduct the participant feedback survey among Panel 1-5 responders and non-responders. The survey will be bi-modal and was designed to assess a variety of factors including those that have motivated and/or discouraged Millennium Cohort participants to stay connected with the study. This data will be utilized in the design of the future surveys and survey operations to maximize retention and increase participation from previous non-responders. The survey was developed based on preliminary 2019-2021 MCS survey response data and the Hispanic Community Health Study Participant Feedback survey (OMB Control Number 0925-0584).

Affected Public: Individuals or households.

Frequency: Variable; participants asked to complete the survey every 3 to 5 years.

Respondent's Obligation: Voluntary.

DOD Clearance Officer: Mr. Reginald Lucas.

Dated: December 26, 2024.
Aaron T. Siegel,
Alternate OSD Federal Register, Liaison Officer, Department of Defense.

[FR Doc. 2024-31397 Filed 12-30-24; 8:45 am]

BILLING CODE 6001-FR-P